DEPARTMENT OF THE INTERIOR

Bureau of Land Management

DEPARTMENT OF ENERGY

Western Area Power Administration

[LLNM930000 L51010000.ER0000 LVRWG14G0790 14XL5017AP]

Notice of Availability of the Proposed Southline Transmission Line Project Draft Environmental Impact Statement and Draft Resource Management Plan Amendment, New Mexico and Arizona

AGENCY: Bureau of Land Management, Interior; Western Area Power Administration, Department of Energy.

ACTION: Notice of availability.

SUMMARY: In accordance with the National Environmental Policy Act of 1969,as amended (NEPA), and the Federal Land Policy and Management Act of 1976, as amended (FLPMA), the Bureau of Land Management (BLM) and the Western Area Power Administration (Western), have prepared a Draft Environmental Impact Statement (EIS) and Draft Resource Management Plan (RMP) Amendment for the proposed Southline Transmission Line Project (Project), and by this notice are announcing the opening of the comment period.

DATES: To ensure that comments will be considered, the BLM must receive written comments on the Draft EIS and Draft RMP Amendment within 90 days following the date the Environmental Protection Agency publishes its Notice of Availability in the Federal Register. The BLM and Western will hold public hearings on the Draft EIS and Draft RMP Amendment at various locations in New Mexico and Arizona during the public comment period, and will announce future meetings or hearings and any other public involvement activities at least 15 days in advance through direct mailings to the Project mailing list, local news media, newsletters, and posting on the BLM Web site at http://www.blm.gov/nm/southline.

ADDRESSES: You may submit comments related to the Southline Transmission Line Project by any of the following methods:

• Web site: http://www.blm.gov/nm/southline.

• Email: BLM_NM_Southline@blm.gov.

• Fax: 575-525-4412.

• Mail: BLM, Las Cruces District Office, Southline Transmission Project, Attention: Frances Martinez, 1800 Marquess Street, Las Cruces, NM 88005.

FOR FURTHER INFORMATION CONTACT: Mark Mackiewicz, PMP, BLM Senior National Project Manager; telephone 435-636-3616; email: mmackiew@blm.gov. For information about Western's involvement contact Mark Wieringa, Western NEPA Document Manager; telephone 800-336-7288 or 720-962-7448; email: wieringa@wapa.gov. For general information on the Department of Energy's (DOE) NEPA review procedures or on the status of a NEPA review, contact Carol M. Borgstrom, Director of NEPA Policy and Compliance, GC-54, U.S. Department of Energy, 1000 Independence Avenue SW., Washington, DC 20585-0119, telephone 202-586-4600 or toll free at 800-472-2756, fax 202-586-7031.

Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: Copies of the Southline Draft EIS/Draft RMP Amendment are available at the following BLM locations: Las Cruces District Office (see ADDRESSES); New Mexico State Office, 301 Dinosaur Trail, Santa Fe, NM 87508; Arizona State Office, One North Central Avenue Suite 800, Phoenix, AZ 85004; Safford Field Office, 711 14th Avenue, Safford, AZ 85546; and Tucson Field Office, 3201 East Universal Way, Tucson, AZ 85756. The Draft EIS/Draft RMP Amendment and supporting documents will be available electronically on the Project Web site at http://www.blm.gov/nm/southline.

Southline has filed a right-of-way (ROW) application with the BLM pursuant to Title V of FLPMA, proposing to construct, operate, maintain, and eventually decommission a high-voltage, alternating current electric transmission line. The BLM and Western have agreed to be joint lead agencies under NEPA, 40 CFR 1501.5(b). Western is a power-marketing agency within the DOE, and has been a participant in the proposed Project with the applicant, Southline Transmission, LLC (Southline). The proposed Project would consist of two sections. The first section would entail construction of about 240 miles of new double-circuit 345-kV transmission line in a 200-foot ROW between the Afton Substation, south of Las Cruces, New Mexico, and Western's Apache Substation, south of Willcox, Arizona (Afton-Apache or New Build Section). The second section would entail the upgrade of about 120 miles of Western's existing Saguaro-Tucson and Tucson-Apache 115-kV transmission lines in a 100-foot existing ROW to a double-circuit 230-kV transmission line in a 150-foot ROW, where feasible (Apache-Saguaro or Upgrade Section). The Upgrade Section would originate at the Apache Substation and terminate at the Saguaro Substation northwest of Tucson, Arizona. Both new permanent ROW and temporary construction ROW would be required in the New Build Section and in some portions of the Upgrade Section for the transmission line, substations, access roads, and other permanent and temporary Project components. The proposed Project would also include installation of new communications equipment, and connect to 14 substations distributed throughout southern New Mexico and Arizona, including expanding/upgrading existing substations and potentially constructing a new substation in New Mexico.

The New Build Section (Afton-Apache) would include construction and operation of:

• 205 miles of 345-kV double-circuit electric transmission line in New Mexico and Arizona with a planned bidirectional capacity of up to 1,000 MW. This section is defined by endpoints at the existing Afton Substation, south of Las Cruces in Doña Ana County, New Mexico, and Western's existing Apache Substation, south of Willcox in Cochise County, Arizona;

• 5 miles of 345-kV single-circuit electric transmission line between the existing Afton Substation and the existing Luna-Diablo 345-kV transmission line;

• 30 miles of 345-kV double-circuit electric transmission line between New Mexico State Route 9 and Interstate 10 east of Deming in Luna County, New Mexico, to provide access for potential renewable energy generation sources in southern New Mexico. This segment of the proposed Project is included in the analysis, however, development of this segment would be determined at a later date; and

• A new substation (proposed Midpoint Substation) in Luna County, New Mexico, to provide an intermediate connection point for future interconnection requests.

The Upgrade Section (Apache-Saguaro) would include:

• Replacing 120 miles of Western's existing Saguaro-Tucson and Tucson-Apache 115-kV single-circuit electric wood-pole H-frame transmission lines with a 230-kV double-circuit electric steel-pole transmission line. This section is defined by endpoints at the existing Apache Substation, south of Willcox in Cochise County, Arizona, to the existing Saguaro Substation, northwest of Tucson in Pima County, Arizona; and

• Two miles of new build double-circuit 230-kV electric transmission line to interconnect with the existing Tucson Electric Power Company Vail Substation, located southeast of Tucson and just north of the existing 115-kV Tucson-Apache line.

Because Southline's proposed Project may involve action in floodplains or wetlands, this Notice of Availability also serves as a notice of proposed floodplain or wetland action, in accordance with 10 CFR 1022.12(a). The Draft EIS includes a floodplain/wetland assessment and floodplain/wetland statement of findings following DOE regulations for compliance with floodplain and wetlands environmental review (10 CFR 1022).

As part of its agency mission, Western routinely studies power system requirements; plans for transmission line upgrades and additions; facilitates and finances transmission projects; and constructs, owns, operates, and maintains transmission infrastructure. Such projects may be solely Western's projects or may be projects undertaken with the participation of others. Southline is proposing to upgrade about 120 miles of Western's existing transmission line between Saguaro and Apache substations as part of its proposed Project.

An interdisciplinary approach was used to develop the Draft EIS to consider a variety of resource issues and concerns. The issues addressed in the Draft EIS that shaped the Project's scope and alternatives include, but are not limited to:

• Air and climate;

• Biological resources;

• Cultural resources;

• Health and safety;

• Noise;

• Land use (including farmlands and military operations);

• Recreation;

• Socioeconomics and environmental justice;

• National Conservation Lands or other special designations;

• Wilderness characteristics units;

• National Scenic and Historic Trails and trails under study;

• Visual resources; and

• Transportation.

In addition to the Proponent-Proposed Action, Southline also submitted the Proponent Alternative route for the New Build Section of the proposed Project, both of which were the product of extensive stakeholder outreach. In addition to the Proponent-Proposed Action, the Proponent Alternative and the No Action Alternative, the BLM and Western are considering other local alternatives that provide additional route options. To simplify the analysis of alternatives, the Project area has been divided into four major route groups: (1) Afton Substation to Hidalgo Substation; (2) Hidalgo Substation to Apache Substation; (3) Apache Substation to Pantano Substation; and (4) Pantano Substation to Saguaro Substation.

Route Group 1: Afton to Hidalgo (New Build Section). Under the Proponent-Proposed Action, the agencies considered 4 route segments that would cover about 146.9 miles between the Afton and Hidalgo substations. Under the Proponent Alternative, a southern alternative along the international border, the agencies considered 8 route segments that cover about 141.1 miles. A total of five local routing alternatives were considered for this route group. The route group crosses portions of Doña Ana, Luna, and Hidalgo Counties in New Mexico.

Route Group 2: Hidalgo to Apache (New Build Section). Under the Proponent-Proposed Action, the agencies considered nine route segments that would cover about 95.5 miles between the Hidalgo and Apache substations. Under the Proponent Alternative, the agencies considered seven route segments that altogether cover about 95.9 miles. A total of eight local routing alternatives were considered for this route group. The route group crosses portions of Hidalgo County in New Mexico and Cochise, Greenlee, and Graham Counties in Arizona.

Route Group 3: Apache to Pantano (Upgrade Section). Under the Proponent-Proposed Action, the agencies considered four route segments that would cover about 70.3 miles of the existing Western transmission line between Apache and Pantano substations. One local routing alternative was considered for this route group. The route group crosses portions of Cochise and Pima Counties in Arizona.

Route Group 4: Pantano to Saguaro (Upgrade Section). Under the Proponent-Proposed Action, the agencies considered 13 route segments that would cover about 48.3 miles of the existing Western transmission line between Pantano and Saguaro substations. A total of 10 local routing alternatives were considered for this route group. The route group crosses portions of Pima and Pinal counties in Arizona.

The Draft EIS also considers two substation alternatives (Midpoint North and Midpoint South) proposed by Southline; they are options for the location of the proposed Midpoint Substation located within Route Group 1. Both alternative locations would be in Luna County, New Mexico.

The BLM and Western Agency-Preferred Alternative for the New Build Section consists of a combination of the Proponent-Proposed Action, Proponent Alternative, and agency local alternative segments within Route Groups 1 and 2. The route was selected by the BLM and Western as the Agency-Preferred Alternative because it would maximize use of existing and linear ROWs by paralleling existing and proposed infrastructure and transmission lines; eliminate the need for plan amendments through conformance with existing land use plans; minimize impacts to military operations at and near the Willcox Playa; and minimize impacts to sensitive resources.

The Agency-Preferred Alternative for the Upgrade Section consists of a combination of Proponent-Proposed Action and local alternatives at Tumamoc Hill, and near the Marana Airport, within Route Groups 3 and 4. The route was selected because it would maximize the use of the existing ROW and facilities currently used for Western's Saguaro-Tucson and Tucson-Apache 115-kV transmission lines; minimize impacts to sensitive resources at Tumamoc Hill; and minimize impacts to military training operations at the Marana Airport.

The BLM, Western, Southline, and cooperating agencies worked together to identify routes that would conform to existing BLM land use plans. However, this objective was not reached for all of the routes analyzed in the Draft EIS. A plan amendment for the Mimbres RMP may be required to bring the proposed Project into conformance, depending on the final route selected. The prospective plan amendment will comply with applicable Federal laws and regulations, be analyzed in the Final EIS, and apply only to Federal land administered by the BLM.

Potential changes to the Mimbres RMP would include:

• An amendment may be needed to change the visual resource management (VRM) Class II to a Class III or IV for segments that intersect VRM Class II lands.

• An amendment may be needed for the portion of the alternative route segment that parallels an avoidance area designated for the Butterfield Trail.

The BLM and Western will use and coordinate the NEPA comment period to assist the agencies in satisfying the public involvement requirements under Section 106 of the National Historic Preservation Act (16 U.S.C. 470(f)), as provided for in 36 CFR 800.2(d)(3). In accordance with policy, the BLM will continue to conduct Native American tribal consultations on tribal concerns such as impacts on Indian trust assets. Federal, State, and local agencies, along with other stakeholders that may be interested or affected by the BLM's and Western's decisions on this proposed Project, are invited to participate in the public comment process.

The BLM and Western have determined that public hearings to solicit comments on the Draft EIS and Draft RMP Amendment are necessary. Accordingly, the BLM and Western invite all interested parties to participate in the public hearings held throughout southern New Mexico and Arizona. Interested parties are invited to present oral statements at the hearings. For information on facilities or services for persons with disabilities or to request special assistance at the hearing, contact Ellen Carr at 480-629-4705 or email ellen.carr@galileoaz.com or in writing at 4700 South McClintock Drive, Tempe, AZ 85282, at least 5 business days before the date of the hearing. The hearings will be conducted in accordance with 455 DM 1 and the BLM NEPA Handbook by a representative designated by the BLM.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jesse J. Juen,
State Director, New Mexico.
Mark A. Gabriel,
Administrator, Western Area Power Administration.

[FR Doc. 2014-08018 Filed 4-10-14; 8:45 am]

BILLING CODE 4310-FB-P